DEPARTMENT OF COMMERCE

International Trade Administration

[A-570-815]

Sulfanilic Acid From the People's Republic of China; Final Results and Partial Rescission of Antidumping Duty Administrative Review

AGENCY: Import Administration, International Trade Administration, Department of Commerce.

EFFECTIVE DATE: November 22, 2002.

SUMMARY: On May 10, 2002, the Department of Commerce (the Department) published the preliminary results of the antidumping administrative review of sulfanilic acid from the People's Republic of China. See Notice of Preliminary Results and Preliminary Partial Rescission of Antidumping Duty Administrative Review of Sulfanilic Acid: Sulfanilic Acid from the People's Republic of China, 67 FR 31770 (May 10, 2002) (Preliminary Results).

Based on our analysis of comments received, we have made changes to the margin calculations. Therefore, the final results differ from the preliminary results. The final weighted-average dumping margin for Zhenxing Chemical Industry Company (Zhenxing) (also known as Baoding Mancheng Zhenxing Chemical Plant) is listed below in the section entitled “Final Results of Review.”

We are rescinding the review with respect to Xinyu Chemical Plant (Xinyu) (formerly known as Yude Chemical Industry Company) as explained below in the “Final Rescission” section of this notice because Xinyu did not export the subject merchandise to the United States during the period of review (POR).

FOR FURTHER INFORMATION CONTACT: Sean Carey or Holly Hawkins, Import Administration, International Trade Administration, U.S. Department of Commerce, 14th Street and Constitution Avenue N.W., Washington, D.C. 20230 at (202) 482-3964 or (202) 482-0414, respectively.

SUPPLEMENTARY INFORMATION:

Applicable Statute and Regulations

All citations to the statute are references to the Tariff Act of 1930 (the Act), as amended. In addition, unless otherwise indicated, all citations to the Department's regulations are to 19 CFR part 351 (2002).

Background

Since the Preliminary Results, the following events have occurred. Petitioner, Nation Ford Chemical Company (NFC), timely submitted publicly available information regarding the valuation of factors of production on May 30, 2002, in accordance with section 351.301(c)(3)(ii) of the Department's regulations. In accordance with section 351.301(c)(1), respondents submitted timely factual information on June 10, 2002 in response to the factual information submitted by petitioner on May 30, 2002.

On June 10, 2002, petitioner and respondents submitted case briefs, and respondents made a timely request for a public hearing. Petitioner and respondents submitted rebuttal briefs on June 19, 2002 after the Department granted an extension for the filing of rebuttal briefs in response to a request from respondents. On August 29, 2002, we extended the deadline for the final results of this review. See Extension of Time Limit for Final Results of Antidumping Duty Administrative Review; Sulfanilic Acid from the People's Republic of China, 67 FR 57220 (September 9, 2002). Respondents withdrew their request for a public hearing on October 8, 2002.

Final Rescission

In the Preliminary Results, the Department noted that a query of U.S. Customs Service data on entries of sulfanilic acid from the People's Republic of China made during the POR confirmed that Xinyu made no entries during the POR. Although in a prior decision we had found that Xinyu and Zhenxing should be treated as a single entity (see Notice of Amendment of Final Results of Antidumping Duty Administrative Review; Sulfanilic Acid from the People's Republic of China, 65 FR 18300, April 7, 2000), our analysis in this review has revealed no evidence that Xinyu and Zhenxing should be treated as a single entity. No new information has been presented since the Preliminary Results to warrant reconsideration of our determination to rescind. Therefore, we are rescinding the review with respect to Xinyu.

Scope of the Antidumping Duty Order

Imports covered by this antidumping duty order are all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.22 of the Harmonized Tariff Schedule (HTS), contains 96 percent minimum sulfanilic acid, 1.0 percent maximum aniline, and 1.0 percent maximum alkali insoluble materials. Refined sulfanilic acid, also classifiable under the subheading 2921.42.22 of the HTS, contains 98 percent minimum sulfanilic acid, 0.5 percent maximum aniline and 0.25 percent maximum alkali insoluble materials.

Sodium salt (sodium sulfanilate), classifiable under the HTS subheading 2921.42.90, is a powder, granular or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, our written description of the scope of this proceeding is dispositive.

Analysis of the Comments Received

All issues raised in the briefs filed by parties to this administrative review are addressed in the Memorandum from Joseph A. Spetrini, Deputy Assistant Secretary for AD/CVD Enforcement Group III, to Faryar Shirzad, Assistant Secretary for Import Administration: Issues and Decision Memorandum for the Final Results of the Administrative Review of Sulfanilic Acid from the People's Republic of China, dated November 15, 2002 (Decision Memo), which is hereby adopted by this notice.

A list of the issues which parties have raised and to which we have responded, all of which are in the Decision Memo, is attached to this notice as an Appendix. Parties can find a complete discussion of all issues raised in this review and the corresponding recommendations in this public memorandum, which is on file in the Central Records Unit, room B-099 of the main Commerce Building. In addition, a complete version of the Decision Memo can be accessed directly on the internet at http://ia.ita.doc.gov. The paper copy and electronic version of the Decision Memo are identical in content.

Separate Rates

In the Preliminary Results, we found that Zhenxing met the requirements for receiving a separate rate. No new information or evidence of changed circumstances has been presented since then to warrant reconsideration of this finding. Accordingly, Zhenxing has been assigned a separate rate, the rate listed below under the section “Final Results of Review,” for purposes of these final results.

Changes Since the Preliminary Results

Based on our analysis of comments received, we have made certain changes in the margin calculations. A complete discussion of the changes made to these calculations can be found in the “Memorandum to the File from Sean Carey, Trade Analyst, through Dana Mermelstein, Program Manager, AD/CVD Enforcement, Office 7: Analysis for the Final Results of the 2000/2001 Administrative Review of Sulfanilic Acid from the People's Republic of China,” dated November 15, 2002.

Final Results of Review

We determine the weighted-average dumping margin for Zhenxing for the period August 1, 2000 through July 31, 2001 to be 64.22 percent.

Assessment Rates

The Department shall determine, and the U.S. Customs Service shall assess, antidumping duties on all appropriate entries. Since the reported sales are CEP sales through a single affiliated importer, we will direct Customs to assess the rate that was calculated using the aggregate value of the calculated antidumping duties divided by the aggregate entered customs value of the subject merchandise from Zhenxing during the POR.

Cash Deposit Requirements

The deposit requirement, at the rate noted above under “Final Results of Review,” will be effective for all shipments of subject merchandise by Zhenxing entered, or withdrawn from warehouse, for consumption on or after the date of publication of this notice, as provided by section 751(a)(2)(C) of the Act.

For all other companies, the following rates are in effect and remain unaffected by the results of this administrative review: (1) for previously-reviewed PRC and non-PRC exporters with separate rates, the cash deposit rate will be the company-specific rate established for the most recent period; (2) for all other PRC exporters, the rate will be the current PRC-wide ad valorem rate, which is 85.20 percent; and (3) for all other non-PRC exporters of subject merchandise from the PRC, the cash deposit rate will be the rate applicable to the PRC supplier of that exporter.

Notification to Parties

This notice serves as a final reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(2)(B) and 777(i)(1) of the Act.

Dated: November 15, 2002.
Richard W. Moreland,
Acting Assistant Secretary for Import Administration.

APPENDIX

List of Issues

1. Use of New Surrogate Value Information for Aniline and Sulfuric Acid

2. Supplementing or Adjusting New Surrogate Value Information for Aniline and Sulfuric Acid

[FR Doc. 02-29789 Filed 11-21-02; 8:45 am]

BILLING CODE 3510-DS-S